DEPARTMENT OF TRANSPORTATION

Office of the Secretary

[OST-2007-27909]

Advisory Committee on Impacts of Climate Variability and Change on Transportation Systems and Infrastructure—Gulf Coast Case Study

AGENCY: Federal Highway Administration (FHWA), DOT.

ACTION: Notice of meeting of advisory committee.

SUMMARY: This document announces the second meeting of the Advisory Committee on Impacts of Climate Variability and Change on Transportation Systems and Infrastructure—Gulf Coast Case Study to the U.S. Department of Transportation (the “Advisory Committee”). The purpose of this meeting is to advise the Secretary of Transportation on the design, implementation and final report of Synthesis and Assessment Product 4.7, which examines how a changing climate might affect transportation infrastructure and services in the Gulf Coast. This research is being conducted under the Climate Change Science Program.

DATES: The second meeting of the Advisory Committee is scheduled for May 16-17, 2007, from 8 a.m. until 5 p.m. each day.

ADDRESSES: The meeting will be held at the Tremont House, 2300 Ship's Mechanic Row, Galveston, Texas 77550. Phone: 409-763-0300.

FOR FURTHER INFORMATION CONTACT: Mr. Michael Savonis, the Designated Federal Official, Office of Natural and Human Environment, 202-366-2080, (michael.savonis@dot.gov), Federal Highway Administration, 400 Seventh Street, SW., Washington, DC 20590.

SUPPLEMENTARY INFORMATION:

Background

Through consultation with transportation professionals, researchers, and partners, the U.S. Department of Transportation (DOT) has identified a need within the transportation community for improved information about climate variability and change when making transportation decisions. A sound transportation system is vital to the nation's social and economic future. Investments in transportation are substantial, and result in infrastructure that is designed to last for decades. Transportation plans and designs should therefore be carefully considered and well informed by a range of factors, including consideration of climate variability and change. Climate also affects the safety, operations, and maintenance of transportation infrastructure and systems. This research will investigate the potential impacts of climate variability and change on transportation infrastructure and its operation, and provide guidance as to how transportation planners and decision makers may incorporate this information into transportation planning decisions to ensure a reliable and robust future transportation network.

The Gulf Coast Study was selected by DOT as the first of a series of research activities that the Center will pursue to address these research priorities. This initial product will focus on the low-lying Gulf of Mexico coastal region, which has little topographic relief but it is heavily populated. In addition, the area's transportation modes are both unique and economically significant. For example, the Ports of New Orleans and Houston are the top two ranking U.S. ports in tonnage. Roughly two thirds of all U.S. oil imports are transported through this region. Pipelines traversing the region transport over 90 percent of domestic Outer Continental Shelf oil and gas. Almost half of the Nation's repetitive flood damage claims are paid to homeowners and businesses in this region, and the efficacy of evacuation during storms is an important determinant of the safety and well-being of the region's population. This region is subject to the direct effects of hurricanes and tropical storms. Given its low elevation, the area is also particularly vulnerable to flooding and storm surges that accompany hurricanes and tropical storms. These effects may be exacerbated by global sea level rise and local land subsidence.

To carry out this study, the U.S. DOT published a notice of intent to form an Advisory Committee in the Federal Register on June 22, 2006 (71 FR 35986). That notice, consistent with the requirements of the Federal Advisory Committee Act (FACA), announced the establishment of the Committee and invited comments on the nominations for membership.

The U.S. DOT anticipates that this will be the last meeting of this Advisory Committee. Interested persons shall be permitted to attend, appear before, or file statements for the record. Attendance will necessarily be limited by the size of the meeting room.

The agenda topic for this meeting will include a review of the draft report.

Issued this 13th Day of April, 2007 in Washington, DC.
Robert DeHaan,
Deputy Assistant Secretary for Transportation Policy.

[FR Doc. E7-7435 Filed 4-18-07; 8:45 am]

BILLING CODE 4910-9X-P